DEPARTMENT OF COMMERCE

National Oceanic and Atmospheric Administration

50 CFR Part 660

[RTID 0648-XC621]

Pacific Fishery Management Council; Public Meetings and Hearings

AGENCY: National Marine Fisheries Service (NMFS), National Oceanic and Atmospheric Administration (NOAA), Commerce.

ACTION: Notice of opportunities to provide public comments.

SUMMARY: The Pacific Fishery Management Council (Council) has begun its annual preseason process to develop regulations to manage the 2023 ocean salmon fisheries off the U.S. West Coast. This document informs the public of opportunities to provide oral and written comments on the development of 2023 ocean salmon regulations.

DATES: Comments on the salmon management alternatives that will be adopted by the Council at its March 2023 meeting and will be described in its Preseason Report II, received orally, electronically, or in hard copy by 5 p.m. Pacific Time, March 31, 2023, will be considered in the Council's final recommendation for the 2023 management measures.

ADDRESSES: Documents will be available from the Pacific Fishery Management Council, 7700 NE Ambassador Place, Suite 101, Portland, OR 97220-1384, and will be posted on the Council's website at https://www.pcouncil.org. You may submit written comments by any one of the following methods:

• Council e-Portal: Written comments must be submitted electronically to Mr. Marc Gorelnik, Chair, Pacific Fishery Management Council, via the Council's e-Portal by visiting https://pfmc.psmfc.org.

• Federal e-Rulemaking Portal: Electronic public comments via the Federal e-Rulemaking Portal. Go to https://www.regulations.gov and enter NOAA-NMFS-2023-0001 in the Search box. Click on the “Comment” tab, complete the required fields, and enter or attach your comments. All personal identifying information (e.g., name, address, etc.), confidential business information, or otherwise sensitive information submitted voluntarily by the sender will be publicly accessible. NMFS and the Council will accept anonymous comments (enter “N/A” in the required fields if you wish to remain anonymous).

FOR FURTHER INFORMATION CONTACT: Ms. Robin Ehlke, Pacific Fishery Management Council, telephone: 503-820-2280; email: robin.ehlke@noaa.gov. For information on submitting comments via the Federal e-Rulemaking portal, contact Shannon Penna, NMFS West Coast Region, telephone: 562-980-4239; email: shannon.penna@noaa.gov.

SUPPLEMENTARY INFORMATION: The Council has announced the schedule of reports, public meetings, and hearings for the 2023 ocean salmon fisheries on its website (https://www.pcouncil.org) and in the Federal Register (87 FR 76027, December 12, 2022). The Council will adopt alternatives for the management cycle that begins on May 16, 2023 and continues through May 15, 2024, at its March 4-10, 2023, meeting which is scheduled to occur in person, in Seattle, Washington. Details of this meeting are available on the Council's website (https://www.pcouncil.org). On March 20, 2023, “Preseason Report II—Proposed Alternatives and Environmental Assessment Part 2 for 2023 Ocean Salmon Fishery Regulations” is scheduled to be posted on the Council's website at https://www.pcouncil.org. The report will include a description of the salmon management alternatives and a summary of their biological and economic impacts.

Public hearings will be held to receive oral comments on the proposed ocean salmon fishery management alternatives adopted by the Council. All public hearings begin at 7 p.m. Public hearings focusing on Washington and Oregon salmon fisheries will occur simultaneously on March 20, 2023, and the public hearing for California salmon fisheries will occur on March 21, 2023. A summary of oral comments heard at the hearings will be provided to the Council at its April meeting. These public hearings are tentatively scheduled to occur in person, in the cities of Westport, Washington; Coos Bay, Oregon; and Santa Rosa, California. Actual hearing venues or instructions for joining online hearings will be posted on the Council's website (https://www.pcouncil.org) in advance of the hearing dates.

Comments on the alternatives the Council adopts at its March 2023 meeting, and described in its Preseason Report II, may be submitted in writing or electronically as described under ADDRESSES, orally (in-person) at a public hearing, orally (online or in-person) or in writing at the Council meeting held on March 4-10, 2023, or orally (online or in-person) at the Council meeting, April 1-7, 2023, which is scheduled to occur in person, in Foster City, California. Details of these meetings will be available on the Council's website (https://www.pcouncil.org) and will be published in the Federal Register. Written and electronically submitted comments must be received prior to the April 2023 Council meeting, in order to be included in the briefing book for the Council's April meeting, where they will be considered in the adoption of the Council's final recommendation for the 2023 salmon fishery regulations. All comments received accordingly will be reviewed and considered by the Pacific Council and NMFS.

(Authority: 16 U.S.C. 1801 et seq.)

Dated: January 5, 2023.
Jennifer M. Wallace,
Acting Director, Office of Sustainable Fisheries, National Marine Fisheries Service.

[FR Doc. 2023-00323 Filed 1-11-23; 8:45 am]

BILLING CODE 3510-22-P